CORPORATION FOR NATIONAL AND COMMUNITY SERVICE

Agency Information Collection Activities; Submission to the Office of Management and Budget for Review and Approval; Comment Request; President's Volunteer Service Awards (PVSA), Parts A, B, C, D, and E

AGENCY: Corporation for National and Community Service.

ACTION: Notice of information collection; request for comment.

SUMMARY: The Corporation for National and Community Service (CNCS) has submitted a public information collection request (ICR) entitled President's Volunteer Service Awards (PVSA), Parts A, B, C, D, and E for review and approval in accordance with the Paperwork Reduction Act.

DATES: Written comments must be submitted to the individual and office listed in the ADDRESSES section by July 10, 2020.

ADDRESSES: Direct written comments and/or suggestions regarding the items contained in this Notice to the Attention: CNCS Desk Officer, Office of Information and Regulatory Affairs, Office of Management and Budget, 725 17th Street NW, Washington, DC 20503 or by fax to (202) 395-5806. Provide written comments within 30 days of Notice publication.

FOR FURTHER INFORMATION CONTACT: Copies of this ICR, with applicable supporting documentation, may be obtained by calling the Corporation for National and Community Service, David Premo, at 202-606-6717 or by email to dpremo@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on Wednesday, July 31, 2019 at Vol. 84, No 147. This comment period ended September 30, 2019. No responsive public comments were received from this Notice.

Title of Collection: President's Volunteer Service Awards, Parts A, B, C, D, and E.

OMB Control Number: 3045-0086.

Type of Review: Renewal.

Respondents/Affected Public: All citizens of the United States.

Total Estimated Number of Annual Responses: 200,000.

Total Estimated Number of Annual Burden Hours: 66,666 hours (average 20 minutes per response).

Abstract: The President's Volunteer Service Awards are administered by CNCS per Executive Order 13285 and were established to recognize individuals, schools, and organizations that excel in efforts to support volunteer service and civic participation, especially with respect to students in primary schools, secondary schools, and institutions of higher learning.The information collected will be used to identify recipients of the President's Volunteer Service Awards. The information is collected electronically using a web-based system administered by contractor to CNCS. CNCS seeks to renew the current information collection.

Dated: June 4, 2020.
Rhonda Taylor,
Director of Partnerships and Program Engagement.

[FR Doc. 2020-12526 Filed 6-9-20; 8:45 am]

BILLING CODE 6050-28-P